DEPARTMENT OF LABOR

Federal Advisory Committee Act

AGENCY: U.S. Department of Labor.

ACTION: Notice.

SUMMARY: In accordance with the Federal Advisory Committee Act, the purpose of this notice is to announce that a Federal Advisory Committee, known as the “Advisory Committee on Job Corps” (hereinafter “the Committee”) is being established.

ADDRESSES: U.S. Department of Labor, Office of Job Corps, 200 Constitution Ave., NW., Washington, DC 20210, Attn: Esther R. Johnson, National Director, 200 Constitution Ave., NW., Rm. N4663, Washington, DC 20210.

FOR FURTHER INFORMATION CONTACT: Esther R. Johnson, National Director, U.S. Department of Labor, Office of Job Corps, 200 Constitution Ave., NW., Rm. N4663, Washington, DC 20210. Telephone (202) 693-3000, E-mail johnson.esther@dol.gov.

SUPPLEMENTARY INFORMATION: The Secretary of the U.S. Department of Labor has determined that the establishment of the Committee is necessary and in the public interest in connection with the performance of duties imposed upon the U.S. Department of Labor by law. The Committee Management Secretariat, General Services Administration, concurs with the establishment of the Committee. The purpose of the Committee is to advance Job Corps' new vision for student achievement aimed at 21st century high-growth employment. The Committee will evaluate Job Corps program characteristics, including its purpose, goals, and effectiveness, efficiency, and performance measures in order to address the critical issues facing the provision of job training and education to the youth population that it serves, particularly as related to creating a pipeline of young workers for a demand-driven workforce. The Committee will make recommendations to the U.S. Department of Labor by April 30, 2008.

Dated: August 16, 2006.
Esther R. Johnson,
U.S. Department of Labor, National Director, Office of Job Corps.

[FR Doc. E6-13799 Filed 8-21-06; 8:45 am]

BILLING CODE 4510-23-P